DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA For Certification of Eligibility To Apply for Trade Adjustment
[4/1/2009 through 5/8/2009]
Firm | Address | Date accepted for filing | Products
Control Technology Inc. | 7608 North Hudson Ave., Oklahoma City, OK 73116 | 4/8/2009 | Static electric converters, power conditioners.
J&M Machining, Inc | 313 North Ave., Skowhegan, ME 04976 | 4/13/2009 | Precision machined components parts for industrial machinery.
Carving Craft, Inc | 120 11th Street, Hickory, NC 28603 | 4/14/2009 | Carvings, turnings, and moldings.
Pank Precision Products | 11827 Janke Dr., Northbrook, IL 60062 | 4/14/2009 | Precision metal components primarily for suspension systems.
American Window Enterprises | 200 Conant Street, Pawtucket, RI 02888 | 4/21/2009 | Windows and doors are custom designed and manufactured from vinyl, wood, metal, and glass on-site.
TP Cycle & Engineering, Inc | 4 Finance Drive, Danbury, CT 06810 | 4/22/2009 | Motorcycle engines and related parts.
Oklahoma Interpak Enterprise, Inc | 2424 North Main, Muskogee, OK 74402 | 4/1/2009 | Corrugated board, chipboard, paperboard, to be used as containers, partitions, and pads.
Dufresne Manufacturing Co | 1380 East County Road, E. Vadnais, MN 55110 | 4/3/2009 | Fabricated sheet metal components for medical devices.
Evo Inc | 8140 SW Nimbus Avenue, Beaverton, OR 97008 | 4/7/2009 | High end portable and non-portable electric and gas cooking appliances and grills.
Albany Chicago Company, LLC | 8200 100th St., Pleasant Prairie, WI 53158-2207 | 4/3/2009 | A variety of large aluminum castings.
Electro Form Corporation | 128 Bevier, Street Binghamton, NY 13904 | 4/8/2009 | Precision machined components primarily engaged in electromechanical assembly equipment.
Header Die & Tool, Inc | 3022 Eastrock Ct., Box, Rockford, IL 61125 | 4/14/2009 | Steel tooling used in the production of fasteners.
Tottser Tool and Die Shop, Inc | 1630 Republic Road, Huntington, PA 19006 | 5/8/2009 | Metal stampings and die sets for the automotive industry.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: May 15, 2009.
William P. Kittredge,
Program Officer for TAA.

[FR Doc. E9-12115 Filed 5-22-09; 8:45 am]

BILLING CODE 3510-24-P